DEPARTMENT OF TRANSPORTATION

Surface Transportation Board

49 CFR Part 1247

[STB Ex Parte No. 583]

Modification of the Class I Reporting Regulations

AGENCY: Surface Transportation Board.

ACTION: Final rules.

SUMMARY: New regulations, requiring all Class I railroads to report the number of railroad cars loaded and terminated annually are adopted. The new reporting requirement will ensure the continued availability of important data—heretofore only voluntarily reported to, and supplied to the Surface Transportation Board (Board) by, the Association of American Railroads (AAR)—needed by the Board for application of the Uniform Railroad Costing System (URCS), its railroad cost accounting system.

EFFECTIVE DATE: January 1, 2001.

FOR FURTHER INFORMATION CONTACT: Paul A. Aguiar, (202) 565-1527 or H. Jeff Warren, (202) 565-1533. [Assistance for the hearing impaired is available through the Federal Information Relay Service 1-800-877-8339.]

SUPPLEMENTARY INFORMATION: In a Notice of Proposed Rulemaking (NPR) served July 18, 2000, comments were solicited on modifying Chapter X of the Code of Federal Regulations Title 49, Part 1247 to require Class I railroads to submit a new report—Annual Report of Cars Loaded and Cars Terminated (Form STB-54). This new report would require Class I railroads to report the number of cars loaded and terminated during each calendar year. Currently, the AAR collects such data quarterly and aggregates the information on a yearly basis in its annual reports (AAR Form CS-54-1) for each railroad.

Historically, we have relied on AAR Form CS-54-1 to obtain certain inputs for URCS. However, to ensure the continued availability of these data, we proposed that Class I railroads file an abbreviated version of AAR Form CS-54-1 with the Board. We proposed to require the reporting of only that data used as inputs for URCS—sections A and B of AAR Form CS-54-1.

Comments on the NPR were filed by the Western Coal Traffic League, United Transportation Union-Illinois Legislative Board (UTU-IL), and the U.S. Department of Agriculture. All three parties fully support the proposal. In addition, UTU-IL suggests that we: (1) Require the carriers to file quarterly, as well as annual, information; (2) make Form STB-54 data available for inspection in our public reference room rather than in the Office of Economics, Environmental Analysis, and Administration (OEEAA); and (3) adopt a definition of “dependent short line” railroads and require Class I railroads to list their dependent short lines.¹

¹ Traffic loaded and terminated on dependent short line railroads is to be reported by Class I railroads as if it was loaded or terminated by the Class I carrier.

We will adopt the proposed reporting requirement supported by all commenters. We decline, however, to adopt UTU-IL's additional proposals. Regarding the suggestion to have railroads file quarterly data, it would be inappropriate to adopt the UTU-IL proposal without first affording railroads the opportunity to comment. More importantly, we see no reason to burden the railroads with filing quarterly data that we would not use. While UTU-IL contends that the filing of quarterly data will assure “the integrity of the process,” it has not explained why that is so, and we fail to see how filing such data would provide any benefit.

In addition, we see no need to maintain a second set of Form STB-54 data in our public reference room. UTU-IL has not shown that housing the data in OEEAA will place any unreasonable burden on the public or limit access to the information. Indeed, all other cost and traffic data reported by the railroads are available to the public only in OEEAA and we have received no reports of dissatisfaction with this arrangement. Because the data is used on a regular basis by OEEAA staff, it is administratively most practical to house the data where it is used and UTU-IL has provided no compelling reason to maintain a duplicate set of data in the public reference room.

Finally, under our proposal, we expect the railroads to apply the term “dependent short line” in the same manner as it has been applied in prior years to compile AAR Form CS-54-1. This will ensure comparability of data from year-to-year. We see no need, and UTU-IL has suggested none, to have railroads provide a list of their dependent short lines. Because it is our longstanding policy not to burden the industry by requiring the filing of unneeded information, we reject this proposal.

The regulations set forth below are adopted and will be codified at 49 CFR 1247. Copies of Form STB-54 and its instructions will be available on the Board's web site under forms (http://www.stb.dot.gov/infoex1.htm#forms). Alternatively, copies can be requested by writing or calling the contact persons listed above.

This action will not significantly affect either the quality of the human environment or energy conservation.

Because only large railroads will be affected by the new reporting requirement, we conclude that our action will not have a significant economic impact on a substantial number of small entities within the meaning of the Regulatory Flexibility Act.

List of Subjects in 49 CFR Part 1247

Freight, Railroads, Reporting and recordkeeping requirements.

Decided: December 29, 2000.
By the Board, Chairman Morgan, Vice Chairman Burkes, Commissioner Clyburn.
Vernon A. Williams,
Secretary.

For the reasons set forth above, Title 49, Part 1247 Report of Cars Loaded and Cars Terminated is added to Chapter X of the Code of Federal Regulations to read as follows:

PART 1247—REPORT OF CARS LOADED AND CARS TERMINATED

Authority: 49 U.S.C. 721, 10707, 11144, 11145.

§ 1247.1 Annual Report of Cars Loaded and Cars Terminated.

Beginning with the reporting period commencing January 1, 2001, and annually thereafter, each Class I railroad shall file Form STB-54, Annual Report of Cars Loaded and Cars Terminated, together with the accompanying certification, with the Office of Economics, Environmental Analysis, and Administration (OEEAA), Surface Transportation Board, Washington, DC 20243, within 90 days after the end of the reporting year. Blank forms and instructions are available on the Board's web site (http://www.stb.dot.gov/infoex1.htm#forms) or can be obtained by contacting OEEAA.

[FR Doc. 01-328 Filed 1-4-01; 8:45 am]

BILLING CODE 4915-00-P